DEPARTMENT OF ENERGY

Federal Energy Regulatory Commission

[Docket No. EL15-79-000]

TransSource, LLC v. PJM Interconnection, LLC; Notice of Amended and Restated Complaint

Take notice that on February 10, 2016, pursuant to Rules 206 and 215 of the Federal Energy Regulatory Commission's (Commission) Rules of Practice and Procedure, 18 CFR 385.206 and 385.215, TransSource, LLC (Complainant), filed an amended and restated complaint to update its original complaint filed on June 23, 2015 against PJM Interconnection, LLC (Respondent), alleging that Respondent violated the Federal Power Act (FPA) and Commission's orders implementing the FPA by failing to provide Complainant with open access on a nondiscriminatory basis to the Respondent transmission planning process and to Auction Revenue Rights associated with transmission upgrades Complainant proposed to Respondent, as more fully explained in the amended and restated complaint.

Complainant certifies that copies of the amended and restated complaint were served on the contacts for Respondent as listed on the Commission's list of Corporate Officials. Complainant also served all parties listed on the service list for Docket No. EL15-79-000.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 1, 2016.

Dated: February 12, 2016.
Nathaniel J. Davis, Sr.,
Deputy Secretary.

[FR Doc. 2016-03619 Filed 2-22-16; 8:45 am]

BILLING CODE 6717-01-P